POSTAL SERVICE

39 CFR Part 111

Address Visibility on Bundles of Flat-Size and Irregular Parcel Mail

AGENCY: Postal Service.

ACTION: Final rule.

SUMMARY: The Postal Service™ is adopting new mailing standards to ensure that address and presort information on bundles of flat-size and irregular parcel mail remains visible and readable during processing. The new standards apply only to bundles of Periodicals, Standard Mail, and Package Services mail intended for processing on our Automated Package Processing System equipment.

EFFECTIVE DATE: October 27, 2005.

FOR FURTHER INFORMATION CONTACT: Bill Chatfield, Mailing Standards, U.S. Postal Service, at (202) 268-7278 or Susan Hawes, Operational Requirements and Integration, U.S. Postal Service, at (202) 268-8980.

SUPPLEMENTARY INFORMATION:

Background

The Postal Service uses automated equipment whenever possible to reduce mail processing costs and help maintain stable postage rates. Our new Automated Package Processing System (APPS) for bundles of flat-size and irregular parcel mail has optical character reader (OCR) technology, enabling it to read delivery information and process mail more efficiently. APPS will replace many of our small parcel and bundle sorters.

We published a proposed rule in the Federal Register on September 2, 2004 (69 FR 53666), concerning address visibility on bundles of flat-size and irregular parcel mail. Our proposed rule included the following changes in mailing standards for bundles of Periodicals, Standard Mail, and Package Services mailpieces intended for processing on APPS equipment:

• Address and presort designation visibility,

• The use of optional bundle labels, and

• New bundle height restrictions.

Comments Received

We received comments on the proposed rule from two publishers, ten printers, six mailer associations, six letter shops, two mail owners, one strapping manufacturer, and one individual. Based on these comments, we are not implementing new standards for the use of optional bundle labels or bundle height restrictions. Instead, our revised standards require the complete address on the top piece of each bundle to be visible and readable by the naked eye through the shrinkwrap or clear strapping.

Comments on Bundle-Securing Materials

Several comments indicated a need to clarify our “recommendations” versus “requirements.” Our proposal recommended the use of polywrap or strapping with a level of haze showing less than 70 percent. The haze specification is meant as a helpful guideline for mailers and is a recommendation, not a requirement.

Two comments were concerned with the cost and availability of clear strapping materials. Clear, smooth strapping is currently available in the marketplace. Using these materials may be the most effective way to comply with the new standard. Because mailers may need time to use up their stock of current materials and modify their processes, the mandatory compliance date is April 30, 2006—approximately six months after we publish the revised standards in Mailing Standards of the United States Postal Service, Domestic Mail Manual (DMM).

Comments on APPS and Address Visibility

We received several comments suggesting a lack of data on the causes of APPS read failures. Our tests of APPS equipment revealed the three most significant causes of unreadable addresses: strapping obscuring addresses, shrinkwrap seams obscuring addresses, and poor bundle integrity. This data is the basis for our new standards requiring that address and presort information on bundles be “visible and readable by the naked eye.”

Several comments sought clarification about what address and presort elements APPS must read. To sort a bundle, APPS must read the delivery address information, as well as the optional endorsement line (OEL) or the bundle label.

One comment expressed concern that the “visible and readable by the naked eye” standard is unsuitable for APPS readability. Generally, APPS can read addresses not obstructed by bundling materials. However, if APPS cannot read all the elements needed to sort a bundle, an employee at a remote encoding center should be able to read the address and presort marking if they meet the new standard, allowing us to sort the bundle within the APPS process.

Comments on Alternatives to the Visibility Standard

Two comments asked us to explore alternative solutions for address visibility. One association recommended the application of the “4-state barcode” as a substitute for a visible and readable address. Although there are many potential benefits of the 4-state barcode, a visible and readable address is necessary for efficient mail processing and delivery. One letter shop asked for alternatives to clear, smooth strapping. As an alternative, mailers may place the address in a quadrant of the mailpiece not obscured by strapping.

Comments About Verification and Acceptance

We received several comments about verification and acceptance of bundles processed on APPS. We will incorporate verification for address visibility into our current acceptance procedures. For the first six months after we publish the new standards, we will provide feedback at acceptance and by using eMIR (Electronic Mail Improvement Report). We will not assess additional postage for readability failures until April 30, 2006.

Comments About Increased Costs and Incentives for Compliance

We received many comments concerning the potential increased costs to mailers to meet the new standards. Several comments recommended that we establish an industry workgroup to develop alternative solutions. We held several meetings with industry representatives to carefully consider comments and develop alternative solutions. We designed our final rule to minimize cost burdens by excluding new standards for plastic strapping or shrinkwrap or for an optional bundle label.

We received five comments suggesting that we provide incentives to comply with the new standards. These comments are outside of the scope of this rule.

Other Comments

Two comments discussed a certification process. One printer opposed a shrinkwrap certification process, and one letter shop suggested using the APPS optical system to test for certification. We will not adopt a certification requirement. However, mailers may request testing of their clear, embossed strapping by contacting USPS Engineering (see DMM 608.8.0 for contact information). Tests have demonstrated that clear, smooth strapping does not obstruct readability.

One mailer association advocated the use of a modified label carrier, and another comment concerned the use of facing slips. One publisher said the new standards could affect preparation and addressing for cover wraps, attached mail, and similar items. It is not our intent to restrict creativity or marketing options for mail owners; we simply need to read the address and presort information on bundles to efficiently sort and deliver the mail.

One association recommended that we let mailers use their own methods to satisfy the APPS requirements. The same association recommended a thorough review of the technical standards for polywrap and banding. We are not imposing specific technical standards for polywrap and banding.

Comments About the Implementation Date

Five comments stated that mailers were not ready or could not comply with the proposed standards, and six other comments did not agree with the proposed effective date. We understand that mailers need time to comply with the new standards. For the first six months after publication of the new standards, we will notify mailers about related problems and work with them to improve readability of their address and presort information. During this time, we will not assess any additional postage on mailings that do not comply.

Recommendations Related to the Basic Requirement

We recommend that strapping used for bundling be clear, smooth, and have less than 70 percent haze in accordance with the American Society for Testing and Materials (ASTM) standard D1003. Clear, smooth strapping that is tightly secured around the bundle does not obstruct visibility. Strapping should not contain any seams or texture marks that obscure address characters. We recommend that any shrinkwrap used to secure bundles show less than 70 percent haze after shrinkage. Seams, blisters, wrinkles or other protrusions on shrinkwrap material should not obscure addresses on the top pieces of bundles. We also recommend that any bundle with multiple layers of bundling materials show less than 70 percent haze through all combined layers. We encourage mailers to use USPS Publication 177, Guidelines for Optimizing Readability of Flat-Size Mail.

Summary of the New Standard

Mailers preparing presort bundles must make the delivery address information and any presort label or optional endorsement line visible and readable by the naked eye. The new standard applies to mail processed on APPS equipment. The requirements do not apply to:

• Letter-size mailpieces,

• First-Class Mail flat-size pieces or parcels,

• Mail placed in or on 5-digit or 5-digit scheme sacks or pallets,

• Mail placed in carrier route or 5-digit carrier routes sacks,

• Carrier route mail entered at a destination delivery unit,

• Standard Mail flat-size pieces prepared in letter trays under DMM 345.3.4, and

• Customized MarketMail.

Effective Date

We are revising these standards on October 27, 2005. Recognizing that the mailing industry may have to change some procedures to ensure address visibility, we will allow a six-month grace period for compliance. We will not assess penalties on bundles not meeting the standards until April 30, 2006. Until April 30, 2006, acceptance employees will randomly examine bundles for address visibility. We will provide feedback to mailers at acceptance and via eMIR from destination sites. We also will work closely with mailers to improve address readability on their bundles.

List of Subjects in 39 CFR Part 111

Postal Service.

PART 111—[AMENDED]

1. The authority citation for 39 CFR part 111 continues to read as follows:

Authority: 5 U.S.C. 552(a); 39 U.S.C. 101, 401, 403, 404, 414, 416, 3001-3011, 3201-3219, 3403-3406, 3621, 3626, 5001.

2. Amend Mailing Standards of the United States Postal Service, Domestic Mail Manual (DMM) as listed below:

300 Discount Mail Flats

* * * * *

340 Standard Mail

* * * * *

345 Mail Preparation

* * * * *

2.0 Bundles

* * * * *

[Renumber current 2.2 through 2.13 as new 2.3 through 2.14. Add new 2.2, “Address Visibility,” and revise new 2.11, as explained below. Make these same changes to 445.2.0 (for Standard Mail parcels), 365.2.0 and 465.2.0 (for Bound Printed Matter flats and parcels), 375.2.0 and 475.2.0 (for Media Mail flats and parcels), 385.2.0 and 485.2.0 (for Library Mail flats and parcels), 705.8.5 (for bundles on pallets), and 707.19 (for Periodicals). Exception: Do not repeat items a through e for Media Mail or Library Mail; do not repeat items a and e for Bound Printed Matter and Periodicals.]

2.2 Address Visibility

Mailers preparing presort bundles must ensure that the delivery address information on the top mailpiece in each bundle is visible and readable by the naked eye. Mailers using strapping that might cover the address can avoid obstructing visibility by using clear, smooth strapping tightly secured around the bundle. Mailers using barcoded pressure-sensitive bundle labels, optional endorsement lines, carrier route information lines, or carrier route facing slips also must ensure that the information in these presort designations is visible and readable by the naked eye. This standard does not apply to the following:

a. Customized MarketMail.

b. Bundles placed in or on 5-digit or 5-digit scheme (L001) sacks or pallets.

c. Bundles placed in carrier route and 5-digit carrier routes sacks.

d. Bundles of mailpieces at carrier route rates entered at a destination delivery unit (DDU).

e. Bundles of Standard Mail flat-size pieces prepared in letter trays under 345.3.4.

* * * * *

2.11 Labeling Bundles

[Replace the third sentence in 2.11 with the following two sentences to clarify that the bundle label must not obscure the delivery address.]

* * * Barcoded pressure-sensitive bundle labels must not obscure the delivery address block. Banding or shrinkwrap must not obscure any bundle label. * * *

* * * * *

Neva R. Watson,
Attorney, Legislative.

[FR Doc. 05-20924 Filed 10-19-05; 8:45 am]

BILLING CODE 7710-12-P